DEPARTMENT OF COMMERCE

Foreign-Trade Zones Board

[Docket 6-2004]

Foreign-Trade Zone 114—Peoria, Illinois Area; Application For Foreign-Trade Subzone Status, Rockwell Automation, Inc. (Industrial Automation Products), Champaign, IL

An application has been submitted to the Foreign-Trade Zones Board (the Board) by the Economic Development Council for Central Illinois, grantee of FTZ 114, requesting special-purpose subzone status for the warehousing, processing and distribution facility (industrial automation products) of Rockwell Automation, Inc. (Rockwell), located in Champaign, Illinois. The application was submitted pursuant to the Foreign-Trade Zones Act, as amended (19 U.S.C. 81a-81u), and the regulations of the Board (15 CFR part 400). It was formally filed on March 5, 2004.

The Rockwell facility is located at 2802 West Bloomington Road, Champaign (30 acres total; 239,211 sq. ft. of enclosed space, with potential expansion to include an additional 373,402 sq. ft.). The facility (approximately 125 employees) may be used under FTZ procedures for warehousing, packaging, processing, inspecting, quality-control auditing, relabeling and distributing industrial automation power, control, and information products. Rockwell's application indicates that approximately 60 percent of the merchandise handled by the facility is domestically sourced. No authority is being sought for activity conducted under FTZ procedures that would result in a change in tariff classification.

Zone procedures would exempt Rockwell from Customs duty payments on foreign-status merchandise that is reexported. On its domestic shipments, Rockwell would be able to defer duty payments until merchandise is shipped from its facility. The company would be able to avoid duty on foreign merchandise which becomes scrap/waste, estimated at approximately one percent of imported inputs. The application indicates that Rockwell anticipates realizing significant logistical/procedural benefits, with potential future savings also possible from zone-to-zone merchandise transfers. All of the above-cited savings from FTZ procedures could help improve the facility's international competitiveness.

In accordance with the Board's regulations, a member of the FTZ Staff has been designated examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St., NW., Washington, DC 20005; or

2. Submissions Via the U.S. Postal Service: Foreign-Trade-Zones Board, U.S. Department of Commerce, FCB—Suite 4100W, 1401 Constitution Ave., NW., Washington, DC 20230.

The closing period for their receipt is May 17, 2004. Rebuttal comments in response to material submitted during the foregoing period may be submitted during the subsequent 15-day period to June 1, 2004.

A copy of the application and accompanying exhibits will be available for public inspection at the Office of the Foreign-Trade Zones Board's Executive Secretary at address Number 1 listed above, and at the Economic Development Council for Central Illinois, 124 SW. Adams Street, Suite 300, Peoria, IL 61602.

Dated: March 8, 2004.
Dennis Puccinelli,
Executive Secretary.

[FR Doc. 04-5923 Filed 3-15-04; 8:45 am]

BILLING CODE 3510-DS-P